DEPARTMENT OF TRANSPORTATION

Maritime Administration

Voluntary Intermodal Sealift Agreement/Joint Planning Advisory Group Table Top Exercise

AGENCY: Maritime Administration, Department of Transportation.

ACTION: Notice.

SUMMARY: The Voluntary Intermodal Sealift Agreement (VISA) program requires a notice of the time, place, and nature of each Joint Planning Advisory Group (JPAG) meeting be published in the Federal Register. The full text of the VISA program, including these requirements, is published in Federal Register/Vol. 79, No. 209, 64462—64470, dated October 29, 2014.

On June 2-3, 2015, the Maritime Administration and the U.S. Transportation Command co-hosted the 2015 Voluntary Intermodal Sealift Agreement Joint Planning Advisory Group Table-Top Exercise at Scott Air Force Base, Illinois. Participants of the Table Top Exercise (TTX) were required to possess a secret clearance due to the classified nature of the meeting and attendance was by invitation only. The Maritime Administrator invited VISA carriers, Maritime Labor Unions, Longshoreman Labor and designated U.S. Strategic Seaport personnel. In addition, representatives from the Department of Transportation, the Maritime Administration and the Department of Defense (DOD) to include the Office of the Secretary of Defense, U.S. Transportation Command, the Military Sealift Command and the Surface Deployment and Distribution Command attended the meeting.

FOR FURTHER INFORMATION CONTACT: You may contact William G. Kurfehs, Acting Director, Office of Sealift Support, U.S. Department of Transportation, Maritime Administration, 1200 New Jersey Avenue SE., Washington, DC 20590. Telephone (202) 366-2318. You may send electronic mail to Bill.Kurfehs@dot.gov.

SUPPLEMENTARY INFORMATION: Colonel Martin Chapin, USAF, Deputy Director, Operations and Planning, U.S. Transportation Command, and Mr. Kevin Tokarski, Associate Administrator for Strategic Sealift, Maritime Administration, welcomed the participants. Mr. Tokarski thanked the industry participants for their continued support and stated he was pleased with the large number of attendees at the JPAG meeting. He expressed a hope that the JPAG TTX would serve to prepare all attendee for what could actually occur during a VISA activation. Col. Chapin remarked that the classified TTX will focus on VISA participants' ability to meet DOD requirements for moving contingency cargo from CONUS Sea Ports of Embarkation to designated OCONUS Ports of Debarkation. Col. Chapin also stated that the TTX will address mariner availability to support VISA activation. Further, both gentlemen requested participants complete a survey at the end of the TTX and provide recommendations to improve the JPAG.

The purpose of the JPAG TTX was to: (1) Affirm industry's ability to meet DOD requirements by exposing them to the most demanding DOD scenario; (2) exercise commercial sealift capacity in relation to scenario requirements; (3) validate scenario planning assumptions; and (4) recommend revisions, as appropriate, on how we model specified scenarios and/or other related planning documents and associated planning assumptions. The JPAG TTX was considered a success as industry participants were able to provide capacity and resources to meet DOD requirements. However, the participants identified specific “lessons learned” that will be addressed to improve the JPAG. The JPAG TTX participants agreed to work on the lessons learned to assure that they are adequately addressed for the efficient coordination of VISA activation procedures.

The following are VISA participants:

A Way To Move, Inc.

American International Shipping, LLC

American Marine Corporation

American President Lines, Ltd.

American Roll-On Roll-Off Carrier, LLC

APL Marine Services, Ltd.

Argent Marine Operations, Inc.

Beyel Brothers Inc.

Central Gulf Lines, Inc.

Columbia Coastal Transport, LLC

CRC Marine Services, Inc.

Crimson Shipping Co., Inc.

Crowley Puerto Rico Services, Inc.

Crowley Marine Services, Inc.

Curtin Maritime, Corp.

Dann Marine Towing, LC

Farrell Lines Incorporated

Fidelio Limited Partnership

Foss International, Inc.

Foss Maritime Company

Hapag-Lloyd USA, LLC

Horizon Lines, LLC

LA Carriers, LLC

Laborde Marine, L.L.C.

Liberty Global Logistics, LLC

Liberty Shipping Group, LLC

Lockwood Brothers, Inc.

Lynden Incorporated

Maersk Line, Limited

Marine Transport Management

Matson Navigation Company, Inc.

McAllister Towing and Transportation Co., Inc.

McCulley Marine Services, Inc.

Moran Towing Corp.

National Shipping of America, LLC

Northcliffe Ocean Shipping & Trading Company

Pasha Hawaii Transport Lines LLC

Patriot Shipping, L.L.C

Resolve Towing & Salvage, Inc.

Samson Tug & Barge Company, Inc.

Schuyler Line Navigation Company, LLC

Sea Star Line, LLC

SeaTac Marine Services, LLC

Seabridge, Inc.

Sealift Inc.

Smith Maritime, Inc.

Stevens Towing Co., Inc.

Stevens Transportation, LLC

Superior Maritime Services, Inc.

Tactical Shipping, LLC

Teras BBC Ocean Navigation Enterprises Houston, LLC

Totem Ocean Trailer Express

Trailer Bridge, Inc.

TransAtlantic Lines, LLC

Western Towboat Company

Weeks Marine, Inc.

Waterman Steamship Corporation

Young Brothers Limited

Authority: 49 CFR 1.93(l), Pub. L. 111-67.

Dated: June 25, 2015.
By Order of the Maritime Administrator.
T. Mitchell Hudson, Jr.,
Secretary, Maritime Administration.

[FR Doc. 2015-16178 Filed 6-30-15; 8:45 am]

BILLING CODE 4910-81-P